DEPARTMENT OF ENERGY

Federal Energy Regulatory Commission

Combined Notice of Filings #1

Take notice that the Commission received the following electric rate filings:

Docket Numbers: ER10-2400-006.

Applicants: Blue Canyon Windpower LLC.

Description: Updated Market Power Analysis for the Southwest Power Pool Region of Blue Canyon Windpower LLC.

Filed Date: 12/31/15.

Accession Number: 20151231-5391.

Comments Due: 5 p.m. ET 2/29/16.

Docket Numbers: ER10-3232-004; ER14-2871-007; ER16-182-002; ER10-3244-009; ER10-3251-007; ER14-2382-007; ER15-621-006; ER15-622-006; ER15-463-006; ER16-72-002; ER15-110-006; ER13-1586-008; ER10-1992-014.

Applicants: Wheelabrator Shasta Energy Company Inc., Cameron Ridge, LLC, Cameron Ridge II, LLC, Coso Geothermal Power Holdings, LLC, Oak Creek Wind Power, LLC,ON Wind Energy LLC, Pacific Crest Power, LLC, Ridgetop Energy, LLC, San Gorgonio Westwinds II, LLC, San Gorgonio Westwinds II—Windustries,,Terra-Gen Energy Services, LLC,TGP Energy Management, LLC, Victory Garden Phase IV, LLC.

Description: Triennial Market Power Analysis of the ECP MBR Sellers.

Filed Date: 12/31/15.

Accession Number: 20151231-5387.

Comments Due: 5 p.m. ET 2/29/16.

Docket Numbers: ER15-1332-003; ER10-2401-004; ER10-2402-004; ER11-2414-001; ER10-2403-004; ER13-1816-003; ER15-1333-002.

Applicants: Arbuckle Mountain Wind Farm LLC, Blue Canyon Windpower II LLC, Blue Canyon Windpower V LLC, Blue Canyon Windpower VI LLC, Cloud County Wind Farm, LLC, Sustaining Power Solutions LLC, Waverly Wind Farm LLC.

Description: Updated Market Power Analysis for the Southwest Power Pool Region of Arbuckle Mountain Wind Farm LLC, et al.

Filed Date: 12/31/15.

Accession Number: 20151231-5400.

Comments Due: 5 p.m. ET 2/29/16.

Docket Numbers: ER16-674-000.

Applicants: PJM Interconnection, L.L.C.

Description: Section 205(d) Rate Filing: Original Service Agreement No. 4320; Queue AA1-109 (ISA) to be effective 12/3/2015.

Filed Date: 12/31/15.

Accession Number: 20151231-5169.

Comments Due: 5 p.m. ET 1/21/16.

Docket Numbers: ER16-675-000.

Applicants: Midcontinent Independent System Operator, Inc.

Description: Section 205(d) Rate Filing: 2015-12-31_Queue Reform Attachment X Filing to be effective 3/30/2016.

Filed Date: 12/31/15.

Accession Number: 20151231-5238.

Comments Due: 5 p.m. ET 1/29/16.

Docket Numbers: ER16-676-000.

Applicants: PJM Interconnection, L.L.C.

Description: Section 205(d) Rate Filing: Revisions to Schedule 12-Appdx & Appdx A re: 2016 RTEP Annual Cost Allocations to be effective 1/1/2016.

Filed Date: 12/31/15.

Accession Number: 20151231-5261.

Comments Due: 5 p.m. ET 1/21/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 4, 2016.
Nathaniel J. Davis, Sr.,
Deputy Secretary.

[FR Doc. 2016-00117 Filed 1-7-16; 8:45 am]

BILLING CODE 6717-01-P